DEPARTMENT OF ENERGY

Federal Energy Regulatory Commission

[Project No. 2373-016; Project No. 2347-064l; Project No. 2348-050; Project No. 2446-052]

Midwest Hydro, LLC; STS Hydropower, LLC; Notice Soliciting Scoping Comments

Take notice that the following hydroelectric applications have been filed with the Commission and is available for public inspection.

a. Type of Applications: Subsequent Minor, Subsequent Minor, Subsequent Minor, New License.

b. Project Nos.: P-2373-016, P-2347-064, P-2348-050, and P-2446-052.

c. Date Filed: August 30, 2022.

d. Applicants: Midwest Hydro, LLC and STS Hydropower, LLC.

e. Names of Projects: Janesville Hydroelectric Project, Beloit Hydroelectric Project, Rockton Hydroelectric Project, and Dixon Hydroelectric Project.

f. Locations: The Janesville Project is on the Rock River near the city of Janesville in Rock County, Wisconsin. The Beloit Project is located on the Rock River near the City of Beloit in Rock County, Wisconsin. The Rockton Project is located on the Rock River in the City of Rockton in Winnebago County, Illinois. The Dixon Project is located on the Rock River in the City of Dixon in Lee and Ogle Counties, Illinois.

g. Filed Pursuant to: Federal Power Act 16 U.S.C. 791(a)-825(r).

h. Applicant Contact: Mr. David Fox, Senior Director of Regulatory Affairs, Midwest Hydro, LLC c/o Eagle Creek RE Management, LLC, 7315 Wisconsin Avenue, Suite 1100W, Bethesda, Maryland 2081; Phone at (240) 482-2707 or email at David.Fox@eaglecreekre.com.

i. FERC Contact: Laura Washington at (202) 502-6072; or email at laura.washington@ferc.gov.

j. Deadline for filing scoping comments: August 19, 2023.¹

¹ The Commission's Rules of Practice and Procedure provide that if a filing deadline falls on a Saturday, Sunday, holiday, or other day when the Commission is closed for business, the filing deadline does not end until the close of business on the next business day. 18 CFR 385.2007(a)(2) (2022).

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the following on the first page: The Janesville Project (P-2347-064), and/or the Beloit Project (P-2348-050), and/or Rockton Project (P-2373-016), and/or the Dixon Project (P-2446-052).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The applications are not ready for environmental analysis at this time.

l. Project Descriptions: The Janesville Project consists of: (1) a 131-acre reservoir with a gross storage capacity of 655 acre-feet at a maximum reservoir surface elevation of 769.8 feet National Geodetic Vertical Datum of 1929 (NGVD 29); (2) a 65-foot-wide, 8.25-foot-deep forebay structure located on the upstream side of the powerhouse; (3) a 321.6-foot-long dam including three sections from left to right looking downstream: (i) a 207-foot-long overflow spillway topped with 22-inch flashboards; (ii) a 38.3-foot-long gated spillway; and (iii) a 76.3-foot-long powerhouse integral with the dam that contains 76.25-foot-wide by 9-foot-high trashracks with 4.0-inch clear spacing; (4) two vertical-shaft turbine-generating units, each with a maximum hydraulic capacity of 600 cubic feet per second (cfs), and a total installed capacity of 500 kilowatts (kW); (5) a 330-foot-long by 480-foot-wide tailrace; (6) a 55-foot-long, 312.5-kilovolt (kV) transmission line connecting the powerhouse to the point of interconnection via a 4.1-kV/12.4-kV step-up transformer; and (7) appurtenant facilities. The Janesville Project had an average annual generation of 2,285 megawatt-hours (MWh) for the five-year period ending in 2021.

The Beloit Project consists of: (1) a 606.47-acre reservoir with a gross storage capacity of 3,032 acre-feet at a maximum reservoir surface elevation of 745.0 feet NGVD 29; (2) a 315.9-foot-long dam including four sections from left to right looking downstream: (i) a 42-foot-long non-overflow section; (ii) a 91.1-foot-long Tainter-type gate and stoplog section; (iii) an 81.2-foot-long needle section; and (iv) a 101.6-foot-long slide gate section; (3) a 37-foot-long, 34.5-foot-wide concrete powerhouse with 32-foot-wide by 9-foot-high trashracks with 5.5-inch clear spacing; (4) one vertical-shaft turbine-generator unit with a maximum hydraulic capacity of 725 cfs and an installed capacity of 480 kW; (5) a 375-foot-wide by 400-foot-long tailrace; (6) a 60-foot-long, 68-kV transmission line connecting the powerhouse to the point of interconnection via a 4.1-kV/12.4-kV step-up transformer; and (7) appurtenant facilities. The Beloit Project had an average annual generation of 3,035 MWh for the five-year period ending in 2021.

The Rockton Project consists of: (1) a 40.67-acre reservoir with a gross storage capacity of 207.4 acre-feet at a maximum reservoir surface elevation of 725.48 feet NGVD 29; (2) a succession of dam structures including, from left to right looking downstream: (i) an 84-foot-long gated headworks structure located upstream of the power canal; (ii) a 1,000-foot-long concrete overflow dam located about 300 feet upstream of the headworks structure that creates a bypassed reach (i.e., Rockton bypassed reach); (iii) a 1,600-foot-long earthen dike extending north from the east abutment of the concrete overflow dam; and (iv) a 5,000-foot-long power canal dike; (3) a 5,000-foot-long power canal running from the gated headworks structure to the powerhouse; (4) an intake structure consisting of 64-foot-wide by 15-foot-high trash racks with 3.5-inch clear spacing; (5) a 64.25-foot-long, 33.25-foot-wide powerhouse; (6) two vertical-shaft turbine-generator units, each with a maximum hydraulic capacity of 810 cfs, for a total installed capacity of 1,100 kW; (7) a 85-foot-wide tailrace that extends downstream for 215 feet where it meets the Rockton bypassed reach; (8) three 4.1-kV/12.4-kV step-up transformers; and (9) appurtenant facilities. The project interconnects with the electrical grid via 4.1-kV bus cables and the three step-up transformers. The Rockton Project had an average annual generation of 5,076 MWh for the five-year period ending in 2021

The Dixon Project consists of: (1) a 305.9-acre reservoir with a gross storage capacity of 1,530 acre-feet at a maximum reservoir surface elevation of 647.08 feet NGVD 29; (2) a 130-foot-wide by 18-foot-deep forebay located immediately upstream of the powerhouse; (3) a succession of dam structures including, from left to right looking downstream: (i) a 250-foot-long powerhouse integral with the dam equipped with 200-foot-wide by 15-foot-high trash racks with 5-inch clear spacing; (ii) a 114-foot-long by 24-foot-high forebay wall set perpendicular to the dam that ties the powerhouse and fender wall to the dam; (iii) a 286-foot-long fender wall located upstream of the project forebay extending from the upstream end of the fender wall to the south riverbank; and (iv) a 610-foot-long north overflow dam extending from the forebay wall to the north riverbank, topped with 16-inch flashboards; (4) five vertical-shaft turbine-generating units, each with a maximum hydraulic capacity of 1,100 cfs, for a total installed capacity of 3,200 kW; (5) a 30-foot-long, 34.5-kV transmission line conveying project power to the point of interconnection via two 2.3-kV transformers; and (7) appurtenant facilities. The Dixon Project had an average annual generation of 14,995 MWh for the five-year period ending in 2021.

As required by their current licenses, the Janesville, Beloit, Rockton, and Dixon Projects all operate in a run-of-river mode, such that outflow approximates inflow to each project.

Janesville Project—Midwest Hydro maintains the elevation of the Janesville Reservoir between 769.1 feet NGVD 29 and 769.8 feet NGVD 29 under normal operating conditions. Midwest Hydro provides a minimum flow of 35 cfs or inflow, whichever is less, over the spillway by maintaining a minimum elevation of 769.1 feet NGVD 29 in the Janesville Reservoir. The Janesville Project is operated manually.

Beloit Project—Midwest Hydro maintains the elevation of the Beloit Reservoir between 744.4 feet NGVD 29 and 745.0 feet NGVD 29 under normal operating conditions. There is no minimum flow requirement at the Beloit Project. However, when inflow to the project is less than the turbine's minimum hydraulic capacity of 500 cfs, all flow is passed downstream. The Beloit Project is equipped with an auto-gate that operates based on reservoir elevation levels.

Rockton Project—Midwest Hydro maintains the elevation of the Rockton Reservoir at 725.48 feet NGVD 29 under normal operating conditions and provides a minimum flow of 300 cfs or inflow, whichever is less, into the Rockton bypassed reach. The Rockton Project is operated manually.

Dixon Project—STS Hydro maintains a minimum one-inch veiling flow (i.e., no less than 50 cfs) over the Dixon overflow dam or, when in place, the flashboards. The Dixon Project is operated manually or via a programmable logic controller (PLC), which maintains water levels in Dixon Reservoir.

Midwest Hydro and STS Hydro propose to continue operating the Janesville, Beloit, Rockton, and Dixon Projects with the following environmental measures: (1) operate each project in a run-of-river mode, such that outflow at each project approximates inflow to each project impoundment; (2) develop an operations monitoring plan for each project to document compliance with the operational requirements of any subsequent or new license, including reservoir elevations and minimum flow requirements; (3) provide a 35 cfs minimum flow or inflow, whichever is less, over the Janesville spillway to protect downstream aquatic resources in the Rock River; (4) provide a 300 cfs minimum flow or inflow, whichever is less, over the Rockton spillway to protect downstream aquatic resources in the Rock River; (5) provide a 1-inch veiling flow (i.e., no less than 50 cfs) or inflow, whichever is less, over the Dixon spillway or, when in place, the flashboards to protect downstream aquatic resources in the Rock River; (6) develop a rapid response aquatic invasive species monitoring plan for the Rockton Project; (7) avoid tree removal (greater than 3-inch diameter at breast height from April 1 to October 15, which is the active season for the Indiana and northern long-eared bats), unless the tree poses a significant human health safety hazard, for the protection of the Indiana and northern long-eared bats; (8) maintain existing recreation facilities; and (9) develop and implement a Historic Properties Management Plan and Programmatic Agreement to protect and mitigate effects to historic properties.

m. Copies of the applications can be viewed on the Commission's website at https://www.ferc.gov using the “eLibrary” link. Enter the project's docket number excluding the last three digits in the docket number field to access the document. At this time, the Commission has suspended access to the Commission's Public Reference Room. For assistance, contact FERC at FERCOnlineSupport@ferc.gov or call toll free, (886) 208-3676 or TTY (202) 502-8659.

You may also register at https://ferconline.ferc.gov/FERCOnline.aspx to be notified via email of new filings and issuances related to these or other pending projects. For assistance, please contact FERC Online Support at FERCOnlineSupport@ferc.gov.

n. Scoping Process

Commission staff will prepare either a multi-project environmental assessment (EA) or an environmental impact statement (EIS) that describes and evaluates the probable effects, if any, of the applicants' proposed action and alternatives. The EA or EIS will consider environmental impacts and reasonable alternatives to the proposed action. The Commission's scoping process will help determine the required level of analysis and satisfy the National Environmental Policy Act (NEPA) scoping requirements, irrespective of whether the Commission prepares an EA or an EIS. At this time, we do not anticipate holding on-site public or agency scoping meetings. Instead, we are soliciting written comments and suggestions on the preliminary list of issues and alternatives to be addressed in the NEPA document, as described in scoping document 1 (SD1), issued July 20, 2023.

Copies of SD1 outlining the subject areas to be addressed in the NEPA document were distributed to the parties on the Commission's mailing lists and the applicants' distribution lists. Copies of SD1 may be viewed on the web at https://www.ferc.gov using the “eLibrary” link. Enter the docket number excluding the last three digits in the docket number field to access the document. For assistance, call 1-866-208-3676 or for TTY, (202) 502-8659.

Dated: July 20, 2023.
Debbie-Anne A. Reese,
Deputy Secretary.

[FR Doc. 2023-15844 Filed 7-25-23; 8:45 am]

BILLING CODE 6717-01-P